BUREAU OF CONSUMER FINANCIAL PROTECTION

12 CFR Part 1006

[Docket No. CFPB-2019-0022]

RIN 3170-AA41

Debt Collection Practices (Regulation F); Extension of Comment Period

AGENCY: Bureau of Consumer Financial Protection.

ACTION: Proposed rule; extension of comment period.

SUMMARY: On May 21, 2019, the Bureau of Consumer Financial Protection (Bureau) published in the Federal Register a Notice of Proposed Rulemaking (NPRM) requesting comment on the Bureau's proposed amendments to Regulation F which implements the Fair Debt Collection Practices Act (FDCPA). The proposed amendments would prescribe Federal rules governing the activities of debt collectors, as that term is defined in the FDCPA. The NPRM provided a 90-day comment period that was set to close on August 19, 2019. To allow interested persons more time to consider and submit their comments, the Bureau has determined that an extension of the comment period until September 18, 2019, is appropriate.

DATES: The comment period for the debt collection NPRM published May 21, 2019, at 84 FR 23274, is extended. Responses to the NPRM must now be received on or before September 18, 2019.

ADDRESSES: You may submit comments, identified by Docket No. CFPB-2019-0022 or RIN 3170-AA41, by any of the following methods:

• Federal eRulemaking Portal: http://www.regulations.gov. Follow the instructions for submitting comments.

• Email: 2019-NPRM-DebtCollection@cfpb.gov. Include Docket No. CFPB-2019-0022 or RIN 3170-AA41 in the subject line of the message.

• Mail: Comment Intake—Debt Collection, Bureau of Consumer Financial Protection, 1700 G Street NW, Washington, DC 20552.

• Hand Delivery/Courier: Comment Intake—Debt Collection, Bureau of Consumer Financial Protection, 1700 G Street NW, Washington, DC 20552.

Instructions: The Bureau encourages the early submission of comments. All submissions should include the agency name and docket number or Regulatory Information Number (RIN) for this rulemaking. Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10:00 a.m. and 5:00 p.m. Eastern Time. You can make an appointment to inspect the documents by telephoning 202-435-7275.

All submissions, including attachments and other supporting materials, will become part of the public record and subject to public disclosure. Proprietary or sensitive personal information, such as account numbers, Social Security numbers, or names of other individuals, should not be included. Submissions will not be edited to remove any identifying or contact information.

FOR FURTHER INFORMATION CONTACT: Courtney Jean or Kristin McPartland, Senior Counsels, Office of Regulations, at 202-435-7700 or https://reginquiries.consumerfinance.gov/. If you require this document in an alternative electronic format, please contact CFPB_Accessibility@cfpb.gov.

SUPPLEMENTARY INFORMATION: On May 7, 2019, the Bureau issued an NPRM proposing to amend Regulation F, 12 CFR part 1006, to prescribe Federal rules governing the activities of debt collectors, as that term is defined in the FDCPA. The NPRM was published in the Federal Register on May 21, 2019.¹ The NPRM would, among other things, address communications in connection with debt collection; interpret and apply prohibitions on harassment or abuse, false or misleading representations, and unfair practices in debt collection; and clarify requirements for certain consumer-facing debt collection disclosures. The NPRM requested public comment on each of those topics, among others.

¹ 84 FR 23274 (May 21, 2019).

The NPRM provided a 90-day public comment period that was set to close on August 19, 2019. The Bureau has received written requests asking that the Bureau extend the comment period. Two written requests from consumer advocates and an industry trade group asked that the Bureau extend the comment period by either 60 or 90 days. The requests indicate that the interested parties would use the time to conduct additional outreach to relevant constituencies and to properly address the many questions presented in the NPRM.

The Bureau has balanced interested parties' desire to have additional time to consider the issues raised in the NPRM, gather data, and prepare their responses, with the Bureau's interest in proceeding expeditiously with the debt collection rulemaking. In light of these factors, the Bureau believes that a 30-day extension of the NPRM comment period to September 18, 2019, is appropriate. This extension should allow interested parties more time to prepare responses to the NPRM without delaying the debt collection rulemaking. The NPRM comment period will now close September 18, 2019.

Dated: July 26, 2019.
Kathleen L. Kraninger,
Director, Bureau of Consumer Financial Protection.

[FR Doc. 2019-16476 Filed 8-1-19; 8:45 am]

BILLING CODE 4810-AM-P